DEPARTMENT OF THE INTERIOR

Bureau of Land Management

[LL WO31000.L13100000.PB0000.24 1E]

Renewal of Approved Information Collection

AGENCY: Bureau of Land Management, Interior.

ACTION: 30-day notice and request for comments.

SUMMARY: The Bureau of Land Management (BLM) has submitted an information collection request to the Office of Management and Budget (OMB) to continue the collection of information pertaining to Federal and Indian oil and gas leasing and drainage protection (except on the Osage Reservation). The Office of Management and Budget (OMB) previously approved this information collection activity, and assigned it control number 1004-0185.

DATES: The OMB is required to respond to this information collection request within 60 days but may respond after 30 days. For maximum consideration, written comments should be received on or before November 13, 2012.

ADDRESSES: Please submit comments directly to the Desk Officer for the Department of the Interior (OMB #1004-0185), Office of Management and Budget, Office of Information and Regulatory Affairs, fax 202-395-5806, or by electronic mail at oira_docket@omb.eop.gov. Please provide a copy of your comments to the BLM. You may do so via mail, fax, or electronic mail.

Mail: U.S. Department of the Interior, Bureau of Land Management, 1849 C Street NW., Room 2134LM, Attention: Jean Sonneman, Washington, DC 20240.

Fax: to Jean Sonneman at 202-245-0050.

Electronic mail: Jean_Sonneman@blm.gov.

Please indicate “Attn: 1004-0185” regardless of the form of your comments.

FOR FURTHER INFORMATION CONTACT: Donnie Shaw, at 202-912-7155. Persons who use a telecommunication device for the deaf (TDD) may call the Federal Information Relay Service (FIRS) at 1-800-877-8339, to leave a message for Mr. Shaw. You may also review the information collection request online at http://www.reginfo.gov/public/do/PRAMain.

SUPPLEMENTARY INFORMATION: The Paperwork Reduction Act (44 U.S.C. 3501-3521) and OMB regulations at 5 CFR part 1320 provide that an agency may not conduct or sponsor a collection of information unless it displays a currently valid OMB control number. Until OMB approves a collection of information, you are not obligated to respond. In order to obtain and renew an OMB control number, Federal agencies are required to seek public comment on information collection and recordkeeping activities (see 5 CFR 1320.8(d) and 1320.12(a)).

As required at 5 CFR 1320.8(d), the BLM published a 60-day notice in the Federal Register on June 27, 2012 (77 FR 38319), and the comment period ended August 27, 2012. The BLM received no comments. The BLM now requests comments on the following subjects:

1. Whether the collection of information is necessary for the proper functioning of the BLM, including whether the information will have practical utility;

2. The accuracy of the BLM's estimate of the burden of collecting the information, including the validity of the methodology and assumptions used;

3. The quality, utility and clarity of the information to be collected; and

4. How to minimize the information collection burden on those who are to respond, including the use of appropriate automated, electronic, mechanical, or other forms of information technology.

Please send comments as directed under ADDRESSES and DATES. Please refer to OMB control number 1004-0185 in your correspondence. Before including your address, phone number, email address, or other personal identifying information in your comment, you should be aware that your entire comment—including your personal identifying information—may be made publicly available at any time. While you can ask us in your comment to withhold your personal identifying information from public review, we cannot guarantee that we will be able to do so.

The following information is provided for the information collection:

Title: Onshore Oil and Gas Leasing and Drainage Protection (43 CFR Parts 3100, 3120, and 3150, and Subpart 3162).

Forms: This is a nonform collection.

OMB Control Number: 1004-0185.

Abstract: The BLM proposes to extend the currently approved collection of information. The collection enables the BLM to monitor and enforce compliance with requirements pertaining to:

1. Statutory acreage limitations;

2. Waiver, suspension, or reduction of rental or royalty payments;

3. Various types of agreements, contracts, consolidations and combinations;

4. Subsurface storage of oil and gas;

5. Transfers, name changes, and corporate mergers;

6. Lease renewal, relinquishment, termination, and cancellation;

7. Leasing under railroads and certain other types of rights-of-way;

8. Lands available for competitive leasing; and

9. Drainage protection.

Frequency of Collection: On occasion, except for Option Statements (43 CFR 3100.3-3), which must be filed within 90 days after June 30 and December 31 of each year. All responses under this control number are required to obtain or retain a benefit.

Estimated Number and Description of Respondents Annually: 2,484 Federal and Indian oil and gas lessees, operators, record title owners, and holders of options to acquire an interest in Federal or Indian leases.

Estimated Reporting and Recordkeeping “Hour” Burden Annually: 6,684 hours.

Estimated Reporting and Recordkeeping “Non-Hour Cost” Burden Annually: $109,439.

The following table details the individual components and respective hour burdens of this information collection request:

Type of response | Number of responses | Hours per response | Total hours (Column B × Column C)
A. | B. | C. | D.
Notice of option holdings 43 CFR 3100.3-1(b) | 30 | 1 | 30
Option statement 43 CFR 3100.3-3 | 50 | 1 | 50
Proof of acreage reduction 43 CFR 3101.2-4(a) | 10 | 1 | 10
Excess acreage petition 43 CFR 3101.2-4(a) | 10 | 1 | 10
Ad hoc acreage statement 43 CFR 3101.2-6 | 10 | 1 | 10
Joinder evidence statement 43 CFR 3101.3-1 | 50 | 1 | 50
Waiver, suspension, or reduction of rental or royalty 43 CFR 3103.4-1 | 20 | 2 | 40
Communitization or drilling agreements 43 CFR 3105.2 | 150 | 2 | 300
Operating, drilling, or development contracts interest statement 43 CFR 3105.3 | 50 | 2 | 100
Application to combine interests for joint refining or transportation of oil 43 CFR 3105.4 | 20 | 1 | 20
Subsurface storage application 43 CFR 3105.5 | 50 | 1 | 50
Consolidation of leases 43 CFR 3105.6 | 1 | 1 | 1
Heirs and devisees statement 43 CFR 3106.8-1 | 40 | 1 | 40
Change of name report 43 CFR 3106.8-2 | 60 | 1 | 60
Corporate merger notice 43 CFR 3106.8-3 | 100 | 2 | 200
Lease renewal application 43 CFR 3107.8 | 30 | 1 | 30
Relinquishment 43 CFR 3108.1 | 150 | 0.5 | 75
Class I reinstatement petition 43 CFR 3108.2-2 | 87 | 1 | 87
Class II reinstatement petition 43 CFR 3108.2-3 | 59 | 1 | 59
Class III reinstatement petition 43 CFR 3108.2-4 | 7 | 1 | 7
Application for lease under right-of-way 43 CFR 3109.1 | 20 | 1 | 20
Lands available for leasing 43 CFR 3120.1-1(e) | 280 | 2.5 | 700
Protests and appeals 43 CFR 3120.1-3 | 90 | 1.5 | 135
Preliminary drainage protection report 43 CFR 3162.2-9 | 1,000 | 2 | 2,000
Detailed drainage protection report 43 CFR 3162.2-9 | 100 | 24 | 2,400
Additional drainage protection report 43 CFR 3162.2-9 | 10 | 20 | 200
Totals | 2,484 |  | 6,684

Jean Sonneman,
Information Collection Clearance Officer, Bureau of Land Management.

[FR Doc. 2012-25173 Filed 10-11-12; 8:45 am]

BILLING CODE 4310-84-P